DEPARTMENT OF JUSTICE

Office of the Attorney General

[A.G. Order No. 5801-2023]

Attorney General Designation of the United Kingdom as a “Qualifying State”

AGENCY: Department of Justice.

ACTION: Notice.

SUMMARY: In accordance with an Executive order, the Attorney General has designated the United Kingdom and Gibraltar (the “United Kingdom” or “UK”) as a “qualifying state.”

DATES: September 22, 2023. The designation is to become effective on the date of entry into force of regulations in the United Kingdom implementing a data bridge for the UK Extension to the Data Privacy Framework for the European Union (“EU”) and the United States of America (“U.S.” or the “United States”).

FOR FURTHER INFORMATION CONTACT: J. Bradford Wiegmann, Deputy Assistant Attorney General, National Security Division, United States Department of Justice, Washington, DC 20530; telephone: (202) 514-1057. This is not a toll-free number.

SUPPLEMENTARY INFORMATION: Executive Order 14086 of October 7, 2022 (Enhancing Safeguards for United States Signals Intelligence Activities), establishes a two-level redress mechanism for the review of qualifying complaints by individuals filed through an appropriate public authority in a “qualifying state” and alleging certain violations of U.S. law concerning signals intelligence activities. A country or regional economic integration organization may be designated as a qualifying state by the Attorney General if he determines, in consultation with the Secretary of State, the Secretary of Commerce, and the Director of National Intelligence, that it meets the requirements set forth in section 3(f) of Executive Order 14086. The Attorney General has made those determinations on the basis of the information contained in the “Memorandum in Support of Designation of the United Kingdom as a Qualifying State Under Executive Order 14086” prepared by the National Security Division of the Department of Justice, available at https://www.justice.gov/opcl/redress-data-protection-review-court.

Designation of the United Kingdom Pursuant to Section 3(f) of Executive Order 14086 Consistent with section 3(f) of Executive Order 14086, and on the basis of the information contained in the memorandum referenced above, the Attorney General has determined, in consultation with the Secretary of State, the Secretary of Commerce, and the Director of National Intelligence, that:

(1) The laws of the United Kingdom require appropriate safeguards in the conduct of signals intelligence activities for United States persons' personal information that is transferred from the United States to the territory of the United Kingdom;

(2) The United Kingdom is anticipated, pursuant to the adoption of regulations in the United Kingdom implementing a data bridge for the UK Extension to the EU-U.S. Data Privacy Framework, to permit the transfer of personal information for commercial purposes between the territory of the United Kingdom and the territory of the United States; and

(3) Designation of the United Kingdom would advance the national interests of the United States.

The Attorney General designated the United Kingdom as a qualifying state for purposes of eligibility for the redress mechanism established in section 3 of Executive Order 14086, with the designation to become effective on the date of entry into force of regulations in the United Kingdom implementing a data bridge for the UK Extension to the EU-U.S. Data Privacy Framework.

Dated: September 18, 2023.
Merrick B. Garland,
Attorney General.

[FR Doc. 2023-20587 Filed 9-21-23; 8:45 am]

BILLING CODE 4410-01-P